DEPARTMENT OF DEFENSE

Department of the Air Force

HQ USAF Scientific Advisory Board

AGENCY: Department of the Air Force, DoD.

ACTION: Notice of meeting.

SUMMARY: Pursuant to Public Law 92-463, notice is hereby given of the forthcoming meeting of the C2 Advisory Group and the leadership of the AFC2ISR Center. The purpose of the meeting is to allow the SAB leadership to advise the commander of the AC2ISRC. Because classified and contractor-proprietary information will be discussed, this meeting will be closed to the public.

DATES: 18-19 December 2002.

ADDRESSES: Air Force C2ISR Center, Langley Air Force Base.

FOR FURTHER INFORMATION CONTACT: Captain Kent Broome, Air Force Scientific Advisory Board Secretariat, 1180 Air Force Pentagon, Rm 5D982, Washington, DC 20330-1180, (703) 697-4648.

Pamela D. Fitzgerald,
Air Force Federal Register Liaison Officer.

[FR Doc. 02-31781 Filed 12-17-02; 8:45 am]

BILLING CODE 5001-05-P